ENVIRONMENTAL PROTECTION AGENCY

[EPA-R09-OAR-2021-0526; FRL-12640-01-R9]

Clean Air Act Prevention of Significant Deterioration Permit Revision Issued to South Point Energy, LLC, for the South Point Energy Center

AGENCY: Environmental Protection Agency (EPA).

ACTION: Notice of final action.

SUMMARY: This notice announces that the U.S. Environmental Protection Agency (EPA), Region 9 issued a final decision to issue, in accordance with the Clean Air Act (CAA), a revised Prevention of Significant Deterioration (PSD) permit to South Point Energy Center, LLC, for the South Point Energy Center. The revised permit authorizes the modification and operation of two existing combined cycle natural gas-fired combustion turbine generators and incorporates additional PSD permit revisions determined necessary and appropriate.

DATES: The final PSD permit decision for the South Point Energy Center was issued on December 30, 2024, and became effective on February 3, 2025. Pursuant to section 307(b)(1) of the CAA, judicial review of this final permit decision, to the extent it is available, may be sought by filing a petition for review in the United States Court of Appeals for the Ninth Circuit within 60 days of August 18, 2025.

ADDRESSES: The EPA established a docket for this action under Docket ID No. EPA-R09-OAR-2021-0526. All documents in the docket are listed on the https://www.regulations.gov website. Although listed in the docket index, some information is not publicly available, e.g., Confidential Business Information (CBI) or other information the disclosure of which is restricted by statute. Certain other material, such as copyrighted material, is not placed on the internet and will be publicly available only in hard copy form. Publicly available docket materials are available through https://www.regulations.gov. Please contact the person identified in the FOR FURTHER INFORMATION CONTACT section for additional information about accessing docket materials for this action.

FOR FURTHER INFORMATION CONTACT: Catherine Valladolid, EPA Region 9, (415) 947-4103, valladolid.catherine@epa.gov. The final PSD permit decision, the Fact Sheet for this action, and all other supporting information are available through https://www.regulations.gov under Docket ID: EPA-R09-OAR-2021-0526.

SUPPLEMENTARY INFORMATION:

Notice of Final Action

On December 30, 2024, the EPA Region 9 issued a final decision to issue a revised permit, PSD Permit No. AZ-98-01-C, to South Point Energy Center, LLC. This revised permit pertains to the South Point Energy Center, a natural gas-fired electrical generating plant located in Mohave Valley, Arizona. The EPA issued the revision pursuant to the provisions of the CAA in subchapter I, part C, as amended (42 U.S.C. 7401 et seq.), and the Code of Federal Regulations (CFR) title 40 section 52.21. Notice of the final permit decision was served on January 2, 2025, pursuant to 40 CFR 124.15. In accordance with 40 CFR 124.19, within 30 days after service of notice of the final permit decision, any person who filed comments on the draft permit or participated in the public hearing could have petitioned the EPA's Environmental Appeal Board (EAB) to review any condition in the permit decision. The EAB did not receive a petition to review any condition in the permit decision under 40 CFR 124.19. Therefore, pursuant to 40 CFR 124.15(b) and 124.20, and the terms of the final permit decision, this revised permit became effective on February 3, 2025.

Dated: June 2, 2025.
Matthew Lakin,
Director, Air and Radiation Division, Region IX.

[FR Doc. 2025-11258 Filed 6-17-25; 8:45 am]

BILLING CODE 6560-50-P